DEPARTMENT OF ENERGY

Federal Energy Regulatory Commission

[Docket No. RP01-460-000]

Canyon Creek Compression Company; Notice of Proposed Changes in FERC Gas Tariff

July 2, 2001.

Take notice that on June 22, 2001, Canyon Creek Compression Company (Canyon) tendered for filing to be part of its FERC Gas Tariff, Sixth Revised Volume No. 1, certain tariff sheets listed on Appendix A to the filing, to be effective July 23, 2001.

Canyon states that the purpose of this filing is to implement a negotiated rate provision in its tariff consistent with the Federal Energy Regulatory Commission's (Commission) “Statement of Policy and Request for Comments” issued January 31, 1996 in Docket Nos. RM95-6 and RM96-7.

Canyon states that copies of the filing are been mailed to its customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing may be viewed on the web at http://www.ferc.gov using the “RIMS” link, select “Docket #” from the RIMS Menu and follow the instructions (please call (202) 208-2222 for assistance). Comments, protests and interventions may be filed electronically via the Internet in lieu of paper. See, 18 CFR 385.2001 (a)(1)(iii) and the instructions on the Commission's web site at http://www.ferc.gov under the link to the User's Guide. If you have not yet established an account, you will need to create a new account by clicking on “Login to File” and then “New User Account.”

David P. Boergers,
Secretary.

[FR Doc. 01-17064 Filed 7-6-01; 8:45 am]

BILLING CODE 6717-01-M